DEPARTMENT OF HEALTH AND HUMAN SERVICES

Administration for Children and Families

Submission for OMB Review; Comment Request

Title: Reunification Procedures for Unaccompanied Alien Children.

OMB No.: 0970-0278.

Description

Following the passage of the 2002 Homeland Security Act (Pub. L. 107-296), the Administration for Children and Families (ACF), Office of Refugee Resettlement (ORR), is charged with the care and placement of unaccompanied alien children in Federal custody, and implementing a policy for the release of these children, when appropriate, upon the request of suitable sponsors while awaiting immigration proceedings. In order for ORR to make determinations regarding the release of these children, the potential sponsors must meet certain conditions pursuant to section 462 of the Homeland Security Act and the Flores v. Reno Settlement Agreement No. CV85 4544-RJK (C.D. Cal. 1997). The proposed information collection requests information to be utilized by ORR for determining the suitability of a sponsor/respondent for the release of a minor from ORR custody. The proposed instruments are the Sponsors Agreement to Conditions of Release, Verification of Release, Family Reunification Packet, and the Authorization for Release of Information.

Respondents: Sponsors requesting release of unaccompanied alien.

Annual Burden Estimates
Instrument | Number of respondents | Number of responses per respondent | Average burden hours per response | Total burden hours
Verification of Release (UAC) | 4,595 | 1 | 0.25 | 1,148.75
Authorization for Release of Information (Sponsor) | 4,595 | 1 | 0.25 | 1,148.75
Family Reunification Packet (Sponsor) | 4,595 | 1 | 1 | 4,595
Sponsors Agreement to Conditions of Release (Sponsor) | 4,595 | 1 | 0.25 | 1,148.75
Verification of Release (Case Worker) | 4,595 | 1 | 0.25 | 1,148.75
Authorization for Release of Information (Case Worker) | 4,595 | 1 | 0.25 |
Family Reunification Packet (Case Worker) | 4,595 | 1 | 1 | 4,595
Sponsors Agreement to conditions of Release (Case Worker) | 4,595 | 1 | 0.25 | 1,148.75

Estimated Total Annual Burden Hours: 16,082.50.

Additional Information

Copies of the proposed collection may be obtained by writing to the Administration for Children and Families, Office of Administration, Office of Information Services, 370 L'Enfant Promenade, SW., Washington, DC 20447, Attn: ACF Reports Clearance Officer. All requests should be identified by the title of the information collection. e-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, E-mail: oira_submission@omb.eop.gov, Attn: Desk Officer for the Administration for Children and Families.

Dated: March 29, 2011.
Robert Sargis,
Reports Clearance Officer.

[FR Doc. 2011-15189 Filed 6-17-11; 8:45 am]

BILLING CODE 4184-01-P